DEPARTMENT OF VETERANS AFFAIRS

Privacy Act of 1974; System of Records

AGENCY: Department of Veterans Affairs (VA).

ACTION: Notice of a modified system of records.

SUMMARY: Pursuant to the Privacy Act of 1974, notice is hereby given that the Department of Veterans Affairs (VA) is amending the system of records entitled, “Administrator's Official Correspondence Records-VA” (75VA001B). VA is amending the system by updating its name, and revising the routine uses of records maintained in the system, including categories of users and the purposes of such uses. VA is republishing the system notice in its entirety. The aforementioned system of records is hereby retitled “Case and Correspondence Management (CCM)-VA” (75VA001B).

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to “Case and Correspondence Management (CCM)” (75VA001B). Comments received will be available at regulations.gov for public viewing, inspection, or copies.

FOR FURTHER INFORMATION CONTACT: Carrie McVicker, Executive Secretary, Office of the Executive Secretary, Office of the Secretary, Department of Veterans Affairs, 810 Vermont Avenue NW, Washington, DC 20420, (202) 461-4861, carrie.mcvicker@va.gov.

SUPPLEMENTARY INFORMATION:

I. Description of the System of Records

This system of records, now known as “Case and Correspondence Management (CCM),” is the Secretary's official correspondence record, and includes the name, address and other identifying information pertaining to the correspondent, as well as background information concerning matters which the correspondent has brought to the Department's attention. The system of records also contains documents generated within VA that may contain the names, addresses and other identifying information of individuals who conduct business with VA, as well as material received, background information compiled and/or response sent.

II. Proposed Routine Use Disclosures of Data in the System

VA is rewriting existing routine uses in the system using plain language. The use of plain language in these routine uses does not, and is not intended to, change the disclosures authorized under these routine uses. VA is amending, deleting, rewriting and reorganizing the order of the routine uses in this system of records, as well as adding new routine uses. Accordingly, the following changes are made to the current routine uses and are incorporated in the amended system of records notice.

Current routine use number 1 is amended for clarity to reflect VA's authorization to disclose individually identifiable information to Members of Congress, or a staff person acting for the Member, when the Member or staff person requests the records on behalf of and at the written request of the individual.

Current routine use number 2 is deleted in its entirety and the information contained therein is clarified with the addition of routine use number 11.

New routine use number 2 addresses disclosure of information by VA to appropriate agencies, entities, and persons when (1) VA suspects or has confirmed that there has been a breach of the system of records; (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

Current routine use number 3 is deleted in its entirety and the information contained therein is clarified with the addition of routine use 5.

New routine use number 3 addresses disclosure by VA to another Federal agency or Federal entity, when VA determines that the information is reasonably necessary to assist the recipient agency or entity in (1) responding to a suspected or confirmed breach; or (2) preventing, minimizing, or remedying the risk of harm to individuals, the recipient agency or entity (including its information systems, programs, and operations), the Federal Government, or national security, resulting from a suspected or confirmed breach.

Current routine use number 4 is deleted in its entirety and the information contained therein is clarified with the addition of routine use number 6.

New routine use number 4 addresses disclosure by VA of information that, either alone or in conjunction with other information, indicates a violation or potential violation of law, whether civil, criminal, or regulatory in nature, to a Federal, state, local, territorial, tribal, or foreign law enforcement authority or other appropriate entity charged with the responsibility of investigating or prosecuting such violation or charged with enforcing or implementing such law. The disclosure of the names and addresses of veterans and their dependents from VA records under this routine use must also comply with the provisions of 38 U.S.C. 5701.

Current routine use number 5 is deleted in its entirety and the information contained therein is clarified with the addition of routine use number 4.

New routine use number 5 addresses disclosure by VA to the Department of Justice (DoJ), or in a proceeding before a court, adjudicative body, or other administrative body before which VA is authorized to appear, when:

(a) VA or any component thereof;

(b) Any VA employee in his or her official capacity;

(c) Any VA employee in his or her individual capacity where DoJ has agreed to represent the employee; or

(d) The United States, where VA determines that litigation is likely to affect the agency or any of its components, is a party to such proceedings or has an interest in such proceedings, and VA determines that use of such records is relevant and necessary to the proceedings.

Current routine use number 6 is deleted in its entirety.

New routine use number 6 addresses disclosure by VA to contractors, grantees, experts, consultants, students, and others performing or working on a contract, service, grant, cooperative agreement, or other assignment for VA, when reasonably necessary to accomplish an agency function related to the records.

Current routine use number 7 is deleted in its entirety and the information contained therein is clarified with the addition of routine use number 2 and 3.

New routine use number 7 addresses disclosure by VA to the Office of Personnel Management (OPM) in connection with the application or effect of civil service laws, rules, regulations, or OPM guidelines in particular situations.

New routine use number 8 addresses disclosure of information to the Equal Employment Opportunity Commission (EEOC) in connection with investigations of alleged or possible discriminatory practices, examination of Federal affirmative employment programs, or other functions of the Commission as authorized by law.

New routine use number 9 addresses disclosure of information to the Federal Labor Relations Authority (FLRA) in connection with the investigation and resolution of allegations of unfair labor practices; the resolution of exceptions to arbitration awards when a question of material fact is raised; matters before the Federal Service Impasses Panel; and the investigation of representation petitions and the conduct or supervision of representation elections.

New routine use number 10 addresses disclosure of information to the Merit Systems Protection Board (MSPB) in connection with appeals, special studies of the civil service and other merit systems, review of rules and regulations, investigation of alleged or possible prohibited personnel practices, and such other functions promulgated in 5 U.S.C. 1205 and 1206, or as authorized by law.

New routine use number 11 addresses disclosure of information to the National Archives and Records Administration (NARA) in records management inspections conducted under 44 U.S.C. 2904 and 2906, or other functions authorized by laws and policies governing NARA operations and VA records management responsibilities.

III. Compatibility of the Proposed Routine Uses

Release of information from these records, pursuant to routine uses, will be made only in accordance with the Privacy Act of 1974. The Privacy Act of 1974 permits agencies to disclose information about individuals, without their consent, for a routine use when the information will be used for a purpose that is compatible with the purpose for which the information was collected. VA has determined that the disclosure of information for the above-stated purposes in the proposed amendment to routine uses is a proper and necessary use of the information collected by the electronic document tracking system and is compatible with the purpose for which VA collected the information.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on April 5, 2022 for publication.

Dated: May 17, 2022.
Amy L. Rose,
Program Analyst, VA Privacy Service, Office of Information Security, Office of Information and Technology, Department of Veterans Affairs.

SYSTEM NAME AND NUMBER:

Case and Correspondence Management (CCM)-VA (75VA001B)

SECURITY CLASSIFICATION:

Unclassified.

SYSTEM LOCATION:

Paper records are maintained in the Office of the Executive Secretary (001B), Office of the Secretary, Department of Veterans Affairs (VA) Central Office (VACO), 810 Vermont Avenue NW, Washington, DC 20420. Records are also maintained in VIEWS. Copies of some documents may be located in other offices throughout VACO and occasionally at field facilities, such as the Veterans Health Administration VA medical centers and Veterans Integrated Service Network offices; Veterans Benefits Administration regional offices and Area Offices; National Cemetery Administration national cemeteries and Memorial Service Network offices. Address locations for VA field facilities are listed in Appendix 1 of the biennial publication of the VA Privacy Act Issuances.

SYSTEM MANAGER(S):

Carrie McVicker, Executive Secretary, Office of the Executive Secretary (001B), Office of the Secretary, Department of Veterans Affairs, 810 Vermont Avenue NW, Washington, DC 20420, carrie.mcvicker@va.gov.

AUTHORITY FOR MAINTENANCE OF THE SYSTEM:

38 U.S.C. 501.

PURPOSE(S) OF THE SYSTEM:

The purpose of this system is to permit VA to identify and respond to individuals and/or organizations who have submitted correspondence or documents to VA. The system of records also contains documents generated within VA that may contain the names, addresses and other identifying information of individuals who conduct business with VA.

CATEGORIES OF INDIVIDUALS COVERED BY THE SYSTEM:

Individuals who voluntarily provide personal contact information when submitting correspondence or other documents to the Department, including, but not limited to: Members of Congress and their staff, officials and representatives of other Federal agencies, State, local and tribal governments, foreign governments, and veterans service organizations; representatives of private or commercial entities; veterans and other VA beneficiaries; VA employees; and other individuals who correspond with the VA Secretary and Deputy Secretary and other VA officials.

CATEGORIES OF RECORDS IN THE SYSTEM:

Full name, postal address, email address, phone and fax numbers of individuals corresponding with the Department, the name of the organization or individual being represented, as well as supporting documents.

RECORD SOURCE CATEGORIES:

Records in this system are derived from processing replies to correspondence, and other inquiries that originate from Members of Congress; other Federal agencies; State, local and tribal governments; foreign governments, veterans service organizations; representatives of private or commercial entities; veterans and their beneficiaries; VA employees; and other individuals who correspond with VA or one of its components. Records maintained include material received, background information compiled and/or response sent.

ROUTINE USES OF RECORDS MAINTAINED IN THE SYSTEM, INCLUDING CATEGORIES OF USERS AND PURPOSES OF SUCH USES:

1. Congress: To a Member of Congress or staff acting upon the Member's behalf when the Member or staff requests the information on behalf of, and at the request of, the individual who is the subject of the record.

2. Data breach response and remediation, for VA: To appropriate agencies, entities, and persons when (1) VA suspects or has confirmed that there has been a breach of the system of records, (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

3. Data breach response and remediation, for another Federal agency: To another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement: To a Federal, state, local, territorial, tribal, or foreign law enforcement authority or other appropriate entity charged with the responsibility of investigating or prosecuting such violation or charged with enforcing or implementing such law, provided that the disclosure is limited to information that, either alone or in conjunction with other information, indicates a violation or potential violation of law, whether civil, criminal, or regulatory in nature. The disclosure of the names and addresses of veterans and their dependents from VA records under this routine use must also comply with the provisions of 38 U.S.C. 5701.

5. DoJ for Litigation or Administrative Proceeding: To the Department of Justice (DoJ), or in a proceeding before a court, adjudicative body, or other administrative body before which VA is authorized to appear, when:

(a) VA or any component thereof;

(b) Any VA employee in his or her official capacity;

(c) Any VA employee in his or her individual capacity where DoJ has agreed to represent the employee; or

(d) The United States, where VA determines that litigation is likely to affect the agency or any of its components, is a party to such proceedings or has an interest in such proceedings, and VA determines that use of such records is relevant and necessary to the proceedings.

6. Contractors: To contractors, grantees, experts, consultants, students, and others performing or working on a contract, service, grant, cooperative agreement, or other assignment for VA, when reasonably necessary to accomplish an agency function related to the records.

7. OPM: To the Office of Personnel Management (OPM) in connection with the application or effect of civil service laws, rules, regulations, or OPM guidelines in particular situations.

8. EEOC: To the Equal Employment Opportunity Commission (EEOC) in connection with investigations of alleged or possible discriminatory practices, examination of Federal affirmative employment programs, or other functions of the Commission as authorized by law.

9. FLRA: To the Federal Labor Relations Authority (FLRA) in connection with the investigation and resolution of allegations of unfair labor practices, the resolution of exceptions to arbitration awards when a question of material fact is raised, matters before the Federal Service Impasses Panel, and the investigation of representation petitions and the conduct or supervision of representation elections.

10. MSPB: To the Merit Systems Protection Board (MSPB) in connection with appeals, special studies of the civil service and other merit systems, review of rules and regulations, investigation of alleged or possible prohibited personnel practices, and such other functions promulgated in 5 U.S.C. 1205 and 1206, or as authorized by law.

11. NARA: To the National Archives and Records Administration (NARA) in records management inspections conducted under 44 U.S.C. 2904 and 2906, or other functions authorized by laws and policies governing NARA operations and VA records management responsibilities.

POLICIES AND PRACTICES FOR STORAGE OF RECORDS:

Records are maintained on paper in the Office of the Executive Secretary (001B), Department of Veterans Affairs, 810 Vermont Avenue NW, Washington, DC 20420. Records are also maintained electronically in VIEWS.

POLICIES AND PRACTICES FOR RETRIEVAL OF RECORDS:

Records are retrieved using name, claim file number, social security number, date of birth, and other unique identifiers belonging to the individual to whom the information pertains.

POLICIES AND PRACTICES FOR RETENTION AND DISPOSAL OF RECORDS:

Records in this system are retained and disposed of in accordance with the schedule approved by the Archivist of the United States, Records Schedule Number DAA-0015-2018-0002.

ADMINISTRATIVE, TECHNICAL, AND PHYSICAL SAFEGUARDS:

Hard copy records are maintained in a controlled facility, where physical entry is restricted by the use of locks, guards, and/or administrative procedures. Records are also maintained in VIEWS. Access to records is limited to those employees who require the records to perform their official duties consistent with the purpose for which the information was collected. All personnel whose official duties require access to the information are trained in the proper safeguarding and use of the information.

RECORD ACCESS PROCEDURES:

Individuals seeking information on the existence and content of records in this system pertaining to them should contact the system manager in writing as indicated above. A request for access to records must contain the requester's full name, address, telephone number, be signed by the requester, and describe the records sought in sufficient detail to enable VA personnel to locate them with a reasonable amount of effort.

CONTESTING RECORD PROCEDURES:

Individuals seeking to contest or amend records in this system pertaining to them should contact the system manager in writing as indicated above. A request to contest or amend records must state clearly and concisely what record is being contested, the reasons for contesting it, and the proposed amendment to the record.

NOTIFICATION PROCEDURES:

Generalized notice is provided by the publication of this notice. For specific notice, see Record Access Procedure, above.

EXEMPTIONS PROMULGATED FOR THE SYSTEM:

None.

HISTORY:

74 FR 30361 (June 25, 2009).

[FR Doc. 2022-10844 Filed 5-19-22; 8:45 am]

BILLING CODE 8320-01-P